DEPARTMENT OF STATE

[Public Notice 4377]

60-Day Notice of Proposed Information Collection: Irish Peace Process Cultural and Training Program (IPPCTP) Employer Information Collection; OMB Control Number 1405-0124

AGENCY: Department of State.

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: Extension of a currently approved collection.

Originating Office: Bureau of European and Eurasian Affairs—Office of United Kingdom, Benelux, and Ireland Affairs (EUR/UBI).

Title of Information Collection: Irish Peace Process Cultural and Training Program (IPPCTP) Employer and Participant Information Collection.

Frequency: On Occasion.

Form Number: N/A.

Respondents: Entities wishing to provide employment and individuals seeking visas to participate in the program.

Estimated Number of Respondents: 4,200.

Average Hours Per Response: (a) Prospective Employers: Up to 2 hours in providing employer background information and up to 1 hour in reporting on participants' work experience (for each participant hired by an employer); (b) Participants: up to 2 hours in providing background/resume information, a photograph, and tracking information. Where participation originates with an employer nomination, the increase of time required of an employer in providing employee-related information will be offset by a corresponding reduction in the time otherwise required of employees in providing the same information.

Total Estimated Burden: 12,400 hours.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Christopher M. Krafft, Officer for Ireland and Northern Ireland Affairs, Bureau of European and Eurasian Affairs, Room 4513, U.S. Department of State, Washington, DC 20520, who may be reached on (202) 647-5674.

Dated: May 5, 2003.
Charles Allegrone,
Executive Director, Bureau of European and Eurasian Affairs, Department of State.

[FR Doc. 03-13267 Filed 5-27-03; 8:45 am]

BILLING CODE 4710-23-P